DEPARTMENT OF STATE

48 CFR Parts 636, 637, and 652

[Public Notice: 10531]

RIN 1400-AE04

Department of State Acquisition Regulation; Safety Requirements

AGENCY: Department of State.

ACTION: Final rule.

SUMMARY: The Department of State (DOS) is adopting as final an interim rule amending the Department of State Acquisition Regulation (DOSAR) to provide new guidance prescribing more stringent safety requirements for certain overseas construction and services projects.

DATES: This final rule is effective on June 28, 2021.

FOR FURTHER INFORMATION CONTACT: Ms. Tandra Jones, Office of the Procurement Executive, A/OPE, 1735 North Lynn Street, Room 442, Arlington VA 22209. Telephone 703-875-6643.

SUPPLEMENTARY INFORMATION: The Department of State published an Interim Rule, Public Notice 9703, at 82 FR 58351, on December 12, 2017, with a request for comments. The comment period closed February 12, 2018. No comments on the rule were received.

Regulatory Findings

Administrative Procedure Act

In accordance with 5 U.S.C. 553(a)(2), which exempts from the Administrative Procedure Act matters relating to contracts, the Department published this rulemaking as an interim final rule, and provided 60 days for public comment.

Regulatory Flexibility Act

This rulemaking is not a “rule” as defined by the Regulatory Flexibility Act (5 U.S.C. 601 et seq.); therefore, that Act does not apply to it. However, the Department of State has reviewed this regulation and, by approving it, certifies that it will not have a significant economic impact on a substantial number of small entities. This determination was based on the fact that few of the DOS overseas construction contracts are performed by small business concerns. In FY 2015, only 19 of the 161 DOS overseas construction contractors to which this would apply were small business concerns.

Unfunded Mandates Act of 1995

This final rule will not result in the expenditure by State, local, and tribal governments, in the aggregate, or by the private sector, of $100 million or more in any year and it will not significantly or uniquely affect small governments. Therefore, no actions were deemed necessary under the provisions of the Unfunded Mandates Act of 1995.

Small Business Regulatory Enforcement Fairness Act of 1996

This rule is not a major rule as defined by the Small Business Regulatory Enforcement Act of 1996 (5 U.S.C. 801 et seq.). This rule will not result in an annual effect on the economy of $100 million or more; a major increase in costs or prices; or significant adverse effects on competition, employment, investment, productivity, innovation, or on the ability of United States-based companies to compete with foreign-based companies in domestic and import markets.

Executive Orders 12866, 13563 and 13771

Executive Orders (E.O.) 12866 and 13563 direct agencies to assess costs and benefits of available regulatory alternatives and, if regulation is necessary, to select regulatory approaches that maximize net benefits (including potential economic, environmental, public health and safety effects, distributive impacts and equity). E.O. 13563 emphasizes the importance of quantifying both costs and benefits, of reducing costs, of harmonizing rules, and of promoting flexibility.

The Department has reviewed the regulation to ensure its consistency with the regulatory philosophy and principles set forth in the Executive Orders and finds that the benefits of this rule outweigh any costs, which the Department assesses to be minimal. This interim final rule is not subject to the requirements of Executive Order 13771 because this final rule has been determined to be non-significant within the meaning of the Executive Order 12866.

Executive Order 13132

This rule will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Executive Order 13175

The Department has determined that this rulemaking will not have tribal implications, will not impose substantial direct compliance costs on Indian tribal governments, and will not pre-empt tribal law. Accordingly, the requirements of Executive Order 13175 do not apply to this rulemaking.

Paperwork Reduction Act

This final rule does not impose or modify any information collections under the Paperwork Reduction Act of 1995 (44 U.S.C. Chapter 35). The information collection related to this rulemaking has been assigned OMB Control Number 1405-0050.

List of Subjects in 48 CFR Parts 636, 637 and 652

Government procurement.

Accordingly, the interim rule amending 48 CFR parts 636, 637 and 652 that was published at 82 FR 58351, on December 12, 2017, is adopted as a final rule without change.

Zachary A. Parker,
Director, U.S. Department of State.

[FR Doc. 2021-13739 Filed 6-25-21; 8:45 am]

BILLING CODE 4710-24-P